DEPARTMENT OF TRANSPORTATION

Federal Aviation Administration

14 CFR Part 39

[Docket No. FAA-2011-0139; Directorate Identifier 2010-CE-057-AD]

RIN 2120-AA64

Airworthiness Directives; B/E Aerospace, Continuous Flow Passenger Oxygen Mask Assembly, Part Numbers 174006-(), 174080-(), 174085-(), 174095-(), 174097-(), and 174098-()

AGENCY: Federal Aviation Administration (FAA), DOT.

ACTION: Notice of proposed rulemaking (NPRM).

SUMMARY: We propose to adopt a new airworthiness directive (AD) for the products listed above, except for those that are currently affected by similar action through any of five ADs applicable to Boeing products. This proposed AD would require an inspection/records check to determine the manufacturer and part number of the oxygen mask assemblies installed, an inspection to determine the manufacturing date and modification status if certain oxygen mask assemblies are installed, and corrective action for certain oxygen mask assemblies. This proposed AD was prompted by a report that several oxygen mask assemblies with broken in-line flow indicators were found following a mask deployment. We are proposing this AD to prevent the in-line flow indicators of the oxygen mask assembly from fracturing and separating, which could inhibit oxygen flow to the masks. This condition could consequently result in occupants developing hypoxia following a depressurization event.

DATES: We must receive comments on this proposed AD by April 11, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this proposed AD, contact B/E Aerospace, 10800 Pflumm Road, Lenexa, Kansas 66215; telephone: 913-888-9800; fax: 913-469-8419; Internet: http://www.beaerospace.com. You may review copies of the referenced service information at the FAA, Small Airplane Directorate, 901 Locust, Kansas City, Missouri 64106. For information on the availability of this material at the FAA, call 816-329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: David Fairback, Aerospace Engineer, Wichita Aircraft Certification Office, FAA, 1801 Airport Road, Room 100, Wichita, Kansas 67209; telephone: (316) 946-4154; fax: (316) 946-4107; e-mail: david.fairback@faa.gov.

SUPPLEMENTARY INFORMATION:

Comments Invited

We invite you to send any written relevant data, views, or arguments about this proposal. Send your comments to an address listed under the ADDRESSES section. Include “Docket No. FAA-2011-0139; Directorate Identifier 2010-CE-057-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report that several oxygen mask assemblies with broken in-line flow indicators were found following a mask deployment. That report prompted us to issue the following ADs:

• AD 2007-26-06, amendment 39-15308 (72 FR 71210, December 17, 2007), for certain Boeing Model 747-200B, 747-300, and 747-400 series airplanes identified in Boeing Service Bulletin 747-35-2119, dated November 30, 2006;

• AD 2008-08-08, amendment 39-15460 (73 FR 19982, April 14, 2008), for certain Boeing Model 757-200, 757-200CB, 757-200PF, and 757-300 series airplanes identified in Boeing Special Attention Service Bulletin 757-35-0028, dated April 9, 2007;

• AD 2008-12-05, amendment 39-15548 (73 FR 32996, June 11, 2008), for certain Boeing Model 777-200, 777-200LR, 777-300, and 777-300ER series airplanes identified in Boeing Special Attention Service Bulletin 777-35-0019, dated March 9, 2006;

• AD 2008-13-21, amendment 39-15584 (73 FR 37781, July 2, 2008), for certain Boeing Model 767-200, 767-300, and 767-400ER series airplanes identified in Boeing Special Attention Service Bulletin 767-35-0054, dated July 6, 2006; and

• AD 2010-14-06, amendment 39-16351 (75 FR 38014, July 1, 2010), for certain Boeing Model 737-200, 737-300, 737-400, and 737-500 series airplanes identified in Boeing Special Attention Service Bulletin 737-35-1099, Revision 1, dated April 23, 2009.

Those ADs require an inspection to determine the manufacturer and manufacture date of certain oxygen mask assemblies and corrective action if necessary. We issued those ADs to prevent the in-line flow indicators of the oxygen mask assembly from fracturing and separating, which could inhibit oxygen flow to the masks. This condition could consequently result in occupants developing hypoxia following a depressurization event.

Actions Since Existing ADs Were Issued

Since we issued the ADs listed in the previous section, we determined that the oxygen mask assemblies on the affected aircraft have the same flow indicators as those installed on certain oxygen mask assemblies manufactured under B/E Aerospace Technical Standard Order Authorization (TSOA) for Technical Standard Order (TSO) TSO-C64 and TSO-C64A. Articles manufactured under a TSOA may be installed on various aircraft by a supplemental type certificate or field approval. Therefore, we have determined that aircraft other than those identified in the ADs listed in the previous section may also be subject to the identified unsafe condition.

This condition, if not corrected, could result in the in-line flow indicators of the oxygen mask assembly fracturing and separating, which could inhibit oxygen flow to the masks and consequently result in occupants developing hypoxia following a depressurization event.

Relevant Service Information

We reviewed B/E Aerospace Service Bulletin 174080-35-04, Rev 000, dated September 6, 2010. The service information describes procedures for identifying an affected oxygen mask assembly and modifying the oxygen mask assembly by replacing the in-line flow indicator with an improved in-line flow indicator.

FAA's Determination

We are proposing this AD because we evaluated all the relevant information and determined the unsafe condition described previously is likely to exist or develop in other products of the same type design.

Proposed AD Requirements

This proposed AD would require accomplishing the actions specified in the service information described previously.

Differences Between the Proposed AD and the Service Information

B/E Aerospace Service Bulletin 174080-35-04, Rev 000, dated September 6, 2010, lists all affected oxygen mask assembly part numbers; including part numbers listed in B/E Aerospace Service Bulletin 174080-35-01, February 6, 2006 (original issue); Revision 1, dated May 1, 2006; and Revision 2, dated May 28, 2008. The oxygen mask assemblies affected by AD 2007-26-06, AD 2008-08-08, AD 2008-12-05, AD 2008-13-21, or AD 2010-14-06 are not affected by this proposed AD.

Costs of Compliance

We estimate that this proposed AD affects 400,000 oxygen mask assemblies.

We estimate the following costs to comply with this proposed AD:

Estimated Costs
Action | Labor cost | Parts cost | Cost per product | Cost on U.S. operators
Replace the in-line flow indicator per mask | 0.5 work-hour × $85 per hour = $42.50 | $6.00 | $48.50 | $19,400,000

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

B/E Aerospace: Docket No. FAA-2011-0139; Directorate Identifier 2010-CE-057-AD.

Comments Due Date

(a) We must receive comments by April 11, 2011.

Affected ADs

(b) None. This AD does not revise or supersede any existing ADs. The following ADs address the unsafe condition described in paragraph (e) of this AD for certain installations on certain Boeing airplanes:

(1) AD 2007-26-06, amendment 39-15308 (72 FR 71210, December 17, 2007), for certain Boeing Model 747-200B, 747-300, and 747-400 series airplanes identified in Boeing Service Bulletin 747-35-2119, dated November 30, 2006;

(2) AD 2008-08-08, amendment 39-15460 (73 FR 19982, April 14, 2008), for certain Boeing Model 757-200, 757-200CB, 757-200PF, and 757-300 series airplanes identified in Boeing Special Attention Service Bulletin 757-35-0028, dated April 9, 2007;

(3) AD 2008-12-05, amendment 39-15548 (73 FR 32996, June 11, 2008), for certain Boeing Model 777-200, 777-200LR, 777-300, and 777-300ER series airplanes identified in Boeing Special Attention Service Bulletin 777-35-0019, dated March 9, 2006;

(4) AD 2008-13-21, amendment 39-15584 (73 FR 37781, July 2, 2008), for certain Boeing Model 767-200, 767-300, and 767-400ER series airplanes identified in Boeing Special Attention Service Bulletin 767-35-0054, dated July 6, 2006; and

(5) AD 2010-14-06, amendment 39-16351 (75 FR 38014, July 1, 2010), for certain The Boeing Company Model 737-200, 737-300, 737-400, and 737-500 series airplanes identified in Boeing Special Attention Service Bulletin 737-35-1099, Revision 1, dated April 23, 2009.

Applicability

(c) This AD applies to B/E Aerospace, Continuous Flow Passenger Oxygen Mask Assembly; Part Numbers 174006-(), 174080-(), 174085-(), 174095-(), 174097-(), and 174098-() as listed in B/E Aerospace Service Bulletin 174080-35-04, Rev 000, dated September 6, 2010, that are installed on any aircraft except for those Boeing airplanes specified in the ADs referenced in paragraphs (b)(1), (b)(2), (b)(3), (b)(4), and (b)(5) of this AD.

Note: The service bulletin lists the part numbers with a suffix of “XX.” The TSO Index lists the part numbers with the suffix of “().” For the purposes of this AD, we have used “().”

Subject

(d) Joint Aircraft System Component (JASC)/Air Transport Association (ATA) of America Code 35: Oxygen.

Unsafe Condition

(e) This AD was prompted by a report that several oxygen mask assemblies with broken in-line flow indicators were found following a mask deployment. We are issuing this AD to prevent the in-line flow indicators of the oxygen mask assembly from fracturing and separating, which could inhibit oxygen flow to the masks. This condition could consequently result in occupants developing hypoxia following a depressurization event.

Compliance

(f) Comply with this AD within the compliance times specified, unless already done.

Records Check/Inspection

(g) Within 36 months after the effective date of this AD or within 6,500 hours time-in-service after the effective date of this AD, whichever occurs first, do the following:

(1) Do a records check to determine if any oxygen mask assembly part number listed in B/E Aerospace Service Bulletin 174080-35-04, Rev 000, dated September 6, 2010, is installed. If you cannot positively determine the manufacturer and part number of any oxygen mask assembly installed, do a general visual inspection to determine if any oxygen mask assembly part number listed in B/E Aerospace Service Bulletin 174080-35-04, Rev 000, dated September 6, 2010, is installed. If you can positively determine that no oxygen mask assembly part number listed in B/E Aerospace Service Bulletin 174080-35-04, Rev 000, dated September 6, 2010, is installed, no further action is required by this paragraph.

(2) If, as a result of the records check/inspection required in paragraph (g)(1) of this AD, you determine that an oxygen mask assembly part number listed in B/E Aerospace Service Bulletin 174080-35-04, Rev 000, dated September 6, 2010, is installed, inspect the oxygen mask assembly to determine if the in-line flow indicator must be replaced following paragraph II.A. of B/E Aerospace Service Bulletin 174080-35-04, Rev 000, dated September 6, 2010. If you can positively determine that the in-line flow indicator does not require replacement, no further action is required by this paragraph.

Modification/Replacement

(h) Before further flight after the inspection in paragraph (g)(2) of this AD where you determined the in-line flow indicator must be replaced, modify the oxygen mask assembly by replacing the in-line flow indicator following B/E Aerospace Service Bulletin 174080-35-04, Rev 000, dated September 6, 2010. As an alternative to modifying the oxygen mask assembly, you may replace the oxygen mask assembly with an airworthy oxygen mask assembly FAA-approved for installation on the aircraft.

Parts Installation

(i) As of the effective date of this AD, no person may install a B/E Aerospace oxygen mask assembly having a part number listed in B/E Aerospace Service Bulletin 174080-35-04, Rev 000, dated September 6, 2010, with a manufacturing date on or after January 1, 2002, and before March 1, 2006, on any aircraft, unless it has been modified in accordance with the requirements of paragraph (h) of this AD.

Alternative Methods of Compliance (AMOCs)

(j)(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your Principal Maintenance Inspector or Principal Avionics Inspector, as appropriate, or lacking a principal inspector, your local Flight Standards District Office.

Related Information

(k) For more information about this AD, contact David Fairback, Aerospace Engineer, Wichita ACO, FAA, 1801 Airport Road, Room 100, Wichita, Kansas 67209; telephone: (316) 946-4154; fax: (316) 946-4107; e-mail: david.fairback@faa.gov.

(l) For service information identified in this AD, contact B/E Aerospace, 10800 Pflumm Road, Lenexa, Kansas 66215; telephone: 913-888-9800; fax: 913-469-8419; Internet: http://www.beaerospace.com. You may review copies of the referenced service information at the FAA, Small Airplane Directorate, 901 Locust, Kansas City, Missouri 64106. For information on the availability of this material at the FAA, call 816-329-4148.

Issued in Kansas City, Missouri, on February 15, 2011.
Earl Lawrence,
Manager, Small Airplane Directorate, Aircraft Certification Service.

[FR Doc. 2011-4046 Filed 2-22-11; 8:45 am]

BILLING CODE 4910-13-P